DEPARTMENT OF LABOR

Agency Information Collection Activities; Submission for OMB Review; Comment Request, Sectoral Strategies and Employer Engagement Portfolio, New Collection

AGENCY: Office of the Assistant Secretary for Policy, Chief Evaluation Office, Department of Labor.

ACTION: Notice of information collection; request for comment.

SUMMARY: The Department of Labor (DOL), as part of its continuing effort to reduce paperwork and respondent burden, conducts a preclearance consultation program to provide the general public and federal agencies with an opportunity to comment on proposed and/or continuing collections of information in accordance with the Paperwork Reduction Act of 1995 (PRA95). This program helps to ensure that requested data can be provided in the desired format, reporting burden (time and financial resources) is minimized, collection instruments are clearly understood, and the impact of collection requirements on respondents is properly assessed. Currently, the Department of Labor is soliciting comments concerning the collection of data about the Sectoral Strategies and Employer Engagement Portfolio. A copy of the proposed Information Collection Request (ICR) can be obtained by contacting the office listed below in the addressee section of this notice.

DATES: Written comments must be submitted to the office listed in the addressee section below on or before December 10, 2024.

ADDRESSES: You may submit comments by either one of the following methods: Email: ChiefEvaluationOffice@dol.gov; Mail or Courier: Evan Murphy, Chief Evaluation Office, OASP, U.S. Department of Labor, Room S-2312, 200 Constitution Avenue NW, Washington, DC 20210. Instructions: Please submit one copy of your comments by only one method. All submissions received must include the agency name and OMB Control Number identified above for this information collection. Comments, including any personal information provided, become a matter of public record. They will also be summarized and/or included in the request for OMB approval of the information collection request.

FOR FURTHER INFORMATION CONTACT: Evan Murphy by email at ChiefEvaluationOffice@dol.gov or by phone at (202) 693-0224.

SUPPLEMENTARY INFORMATION:

I. Background: The Chief Evaluation Office (CEO) of the U.S. Department of Labor (DOL) intends to design and conduct an evaluation to document the implementation and assess the success of the three grant programs within the Sectoral Strategies and Employer Engagement Portfolio (SSEEP): Building Pathways to Infrastructure Jobs Grant (BP), Nursing Expansion Grant (NEG), and Critical Sectors Job Quality Grant (Critical Sectors). The goal of this project is to build knowledge about sector strategies. The SSEEP evaluation includes three components: (1) an implementation evaluation to understand program implementation, partnership development, and lessons for all 34 BP and 25 NEG grantees as well as all 5 Tier 2 Critical Sectors grantees; (2) an impact and cost-benefit evaluability assessment of the Building Pathways to Infrastructure Jobs Grant (BP) and Nursing Expansion Grant (NEG) programs to examine the feasibility of conducting a rigorous evaluation with these grant programs, and; (3) a formative study to identify effective strategies for reducing barriers to employment, engaging and working in partnership with employers, and applying the U.S. Department of Labor's Good Jobs Principles to critical sector occupations.

This Federal Register Notice provides the opportunity to comment on proposed data collection instruments that will be used in the implementation evaluation: a grantee survey for the BP and NEG grantees, a grantee survey for CS grantees, a partner survey, an employer survey, and semi-structured site visit discussion guides for program staff, partners, employers, and participants.

1. Grantee Survey for BP and NEG Grantees. We will field a survey to the 34 BP grantees and 25 NEG grantees. The grantee survey will systematically collect information on program operations and the types of activities and services provided across grantees. The grantee survey will be designed to primarily elicit closed-ended responses to help ensure comparability and completeness of responses and to allow for statistical summaries and analysis. The survey will be modular such that each topic and questions within that topic can be tailored to the specific aspects of each grant program. The grantee survey will be programmed and administered online using ConfirmIT or a similar survey program.

2. Grantee Survey for CS grantees. We will field a survey to the five Critical Sectors Tier 2 grantees. Similar to the survey for NEG and BP grantees, this survey will systematically collect information on program operations and the types of activities and services provided across grantees. The grantee survey will be designed to primarily elicit closed-ended responses to help ensure comparability and completeness of responses and to facilitate analysis. The survey will be modular such that each topic and questions within that topic can be tailored to the specific aspects of each grant program. The grantee survey will be programmed using ConfirmIT or a similar survey software, and will be administered by study team members over the phone with grantee representatives.

3. Partner Survey. We will field a survey to a subset of partners identified by grantees in response to the grantee survey and from their grant applications. The partner survey will contribute important information about the nature of partnerships between partner organizations and lead grantee organizations. The survey will be modular such that each topic and questions within that topic can be tailored to the specific aspects of each grant program. The partner survey will be programmed and administered online using ConfirmIT and fielded to partners of BP and NEG grantees.

4. Employer Survey. We will field a survey to employers identified by grantees in response to the grantee survey. The employer survey will contribute important data about employer engagement strategies, employer roles in the sector strategies grant programs, and employer perceptions of the program. The survey will be modular such that each topic and questions within that topic can be tailored to the specific aspects of each grant program. The employer survey will be programmed through ConfirmIT and administered by evaluation team members over phone/webinar to help obtain complete, clear responses.

5. Semi-structured discussion guides for program staff, partners, employers, and participants. We will conduct site visits to approximately 17 grantees across the BP, NEG, and Critical Sectors programs. Site visits will document the program context, program organization and staffing, program components including education/training activities and support services, and other relevant aspects of sector strategies programs. During the visits, site teams will interview key grantee administrators, program staff, partners (e.g., training providers, support service providers), and employers using discussion guides. During these site visits, we will also conduct semi-structured interviews with program participants. The discussion guides will also include guides for follow-up phone interviews. In the final year of the grant, we will conduct semi-structured follow-up phone calls with grantee staff to document changes that occurred after our visits, lessons and sustainability plans.

II. Desired Focus of Comments: Currently, the Department of Labor is soliciting comments concerning the above data collection for the Sectoral Strategies and Employer Engagement Portfolio Program Evaluation. DOL is particularly interested in comments that do the following:

○ evaluate whether the proposed collection of information is necessary for the proper performance functions of the agency, including whether the information will have practical utility;

○ evaluate the accuracy of the agency's burden estimate of the proposed information collection, including the validity of the methodology and assumptions;

○ enhance the quality, utility, and clarity of the information to be collected; and

○ minimize the burden of the collection of information on those who are to respond, including through the use of appropriate automated, electronic, mechanical, or other technological collection techniques or other forms of information technology—for example, permitting electronic submissions of responses.

III. Current Actions: At this time, the Department of Labor is requesting clearance for the grantee survey, partner survey, employer survey, and semi-structured site visit discussion guides for grantee staff, partners, employers, and participants.

Type of Review: New information collection request.

OMB Control Number: 1290-0NEW.

Affected Public: Individuals or households.

Comments submitted in response to this request will be summarized and/or included in the request for Office of Management and Budget approval of the information collection request; they will also become a matter of public record.

Estimated Annual Burden Hours
Type of instrument (form/activity) | Number of respondents | Number of responses per respondent | Total number of responses | Average burden time per response (hours) | Estimated burden hours
Grantee survey for BP and NEG | ¹ 20 | 1 | 20 | 1.5 | 30
Grantee survey for CS | ² 2 | 1 | 2 | 1.5 | 3
Partner survey | ³ 98 | 1 | 98 | .5 | 49
Employer survey | ⁴ 98 | 1 | 98 | .5 | 49
Semi-structured site visit discussion guide: grantee staff | ⁵ 34 | 1 | 34 | 1.5 | 51
Semi-structured site visit discussion guide: partners | ⁶ 17 | 1 | 17 | 1 | 17
Semi-structured site visit discussion guide: employers | ⁷ 11 | 1 | 11 | 1 | 11
Semi-structured site visit discussion guide: participants | ⁸ 23 | 1 | 23 | 1 | 23
Semi-structured follow-up phone interview guide | ⁹ 8 | 1 | 8 | 1.5 | 12
Total | 311 |  | 311 |  | 244
¹ Assumes 100% response rate from 59 grantees involved in the BP and NEG implementation study over the three-year clearance period. This number is rounded up from 19.67.
² Assumes 100% response rate from 5 grantees involved in the CS implementation study over the three-year clearance period. This number is rounded up from 1.67.
³ Assumes approximately 5 partners per 59 grantees over the three-year clearance period. This number has been rounded down from 98.33.
⁴ Assumes approximately 5 employers per 59 grantees over the three-year clearance period. This number has been rounded up from 98.33.
⁵ Assumes approximately 6 staff per site visit grantee for approximately 17 site visits over the three-year clearance period.
⁶ Assumes approximately 3 partners per site visit grantee for approximately 17 site visits over the three-year clearance period.
⁷ Assumes approximately 2 employers per site visit grantee for approximately 17 site visits over the three-year clearance period. This number has been rounded down from 11.33.
⁸ Assumes approximately 4 worker-participants per site visit grantee for approximately 17 site visits over the three-year clearance period. This number has been rounded up from 22.67.
⁹ Assumes 2 staff members per 12 grantees (six each from BP & NEG) over the three-year clearance period.

Alix Gould-Werth,
Chief Evaluation Officer, U.S. Department of Labor.

[FR Doc. 2024-23527 Filed 10-10-24; 8:45 am]

BILLING CODE 4510-HX-P